DEPARTMENT OF ENERGY

Federal Energy Regulatory Commission

Combined Notice of Filings #1

Take notice that the Commission received the following electric corporate filings:

Docket Numbers: EC26-26-000.

Applicants: Forgeview Solar, LLC, Forgeview Interconnection, LLC.

Description: Joint Application for Authorization Under Section 203 of the Federal Power Act of Forgeview Solar, LLC, et al.

Filed Date: 11/5/25.

Accession Number: 20251105-5179.

Comment Date: 5 p.m. ET 11/26/25.

Take notice that the Commission received the following electric rate filings:

Docket Numbers: ER10-1950-037; ER10-1970-037; ER10-1972-037; ER12-1660-036; ER13-2461-029; ER13-2458-031; ER10-2078-035; ER16-1872-027; ER16-2506-029; ER17-2270-028; ER18-1771-027; ER18-2224-027; ER18-2246-026; ER19-2382-020; ER19-2398-022; ER20-1220-018; ER20-1879-019; ER20-2690-018; ER21-1953-016; ER21-2048-016; ER21-2100-015; ER22-2536-011; ER22-2601-011; ER25-705-003; ER25-1317-004; ER25-1340-003; ER25-1348-005; ER25-1349-005; ER25-1527-003; ER25-2252-002; ER25-2254-002; ER25-2293-002; ER25-2505-002; ER25-2506-002; ER25-3110-001; ER25-3113-001; ER25-3114-001; ER25-3115-001; ER25-3116-001; ER25-3117-001; ER25-3118-001; ER25-3120-001; ER26-48-001.

Applicants: Wildwood Energy Storage, LLC, Three Waters Wind Farm, LLC, Garden Wind Energy, LLC, Red Butte Wind, LLC, Tupelo Brake Solar, LLC, Manila Solar, LLC, Greenlee Solar, LLC, Green Mallard Solar, LLC, Rock Creek Solar, LLC, Weirs Creek Solar, LLC, St. Landry Solar, LLC, Sebree Solar II, LLC, Singer Solar, LLC, Greer Solar, LLC, Knox County Wind Farm LLC, Sebree Solar, LLC, New Madrid Solar, LLC, Wildwood Solar, LLC, Salt Creek Wind LLC, Green River Solar, LLC, Walleye Wind, LLC, Kossuth County Wind, LLC, Point Beach Solar, LLC, Sac County Wind, LLC, Heartland Divide Wind II, LLC, Jordan Creek Wind Farm LLC, Oliver Wind I, LLC, Oliver Wind II, LLC, Hancock County Wind, LLC, Story County Wind, LLC, Heartland Divide Wind Project, LLC, Pegasus Wind, LLC, Langdon Renewables, LLC, Stuttgart Solar, LLC, Oliver Wind III, LLC, Marshall Solar, LLC, White Oak Energy LLC, Tuscola Wind II, LLC, Pheasant Run Wind, LLC, Tuscola Bay Wind, LLC, NextEra Energy Point Beach, LLC, NextEra Energy Duane Arnold, LLC, Garden Wind, LLC.

Description: Notice of Change in Status of Amite Energy Storage, LLC, et al. under ER25-3111, et al. Part 2 of 2.

Filed Date: 11/4/25.

Accession Number: 20251104-5169.

Comment Date: 5 p.m. ET 11/25/25.

Docket Numbers: ER12-2498-025; ER11-3987-020; ER11-4055-015; ER12-1566-019; ER14-2691-001; ER14-2687-001; ER14-1775-013; ER14-1927-013; ER16-1325-008; ER16-1326-008; ER16-1327-008; ER17-382-010; ER17-383-010; ER17-384-010; ER17-2141-008; ER17-2142-008; ER17-2385-005; ER18-855-009; ER18-1416-009; ER22-2914-002; ER22-2916-002; ER23-1410-001; ER24-706-003; ER25-85-001; ER25-2767-001.

Applicants: Emily Solar, LLC, Westside Canal 2A, LLC, Northern Orchard Solar PV, LLC, Fifth Standard Solar PV, LLC, Mesquite Solar 5, LLC, Mesquite Solar 4, LLC, CED Wistaria Solar, LLC, Panoche Valley Solar, LLC, Great Valley Solar 3, LLC, Great Valley Solar 2, LLC, Great Valley Solar 1, LLC, CED Ducor Solar 3, LLC, CED Ducor Solar 2, LLC, CED Ducor Solar 1, LLC, Copper Mountain Solar 4, LLC, Mesquite Solar 3, LLC, Mesquite Solar 2, LLC,CED White River Solar 2, LLC, SEP II, LLC, CED White River Solar, LLC, Alpaugh North, LLC, Copper Mountain Solar 2, LLC, Copper Mountain Solar 1, LLC, Mesquite Solar 1, LLC, Alpaugh 50, LLC.

Description: Notice of Non-Material Change in Status of Alpaugh 50, LLC, et al.

Filed Date: 10/30/25.

Accession Number: 20251030-5345.

Comment Date: 5 p.m. ET 11/20/25.

Docket Numbers: ER13-738-014; ER11-3097-018; ER10-1186-017; ER12-421-008; ER11-2731-008; ER23-1279-003; ER10-3169-016.

Applicants: Michigan Power Limited Partnership, DTE Energy Services, Inc., Heritage Stoney Corners Wind Farm I, LLC, Heritage Garden Wind Farm I, LLC, DTE Energy Supply, LLC, DTE Energy Trading, Inc., DTE Electric Company.

Description: Notice of Change in Status of DTE Electric Company, et al.

Filed Date: 10/30/25.

Accession Number: 20251030-5346.

Comment Date: 5 p.m. ET 11/20/25.

Docket Numbers: ER20-1996-009; ER16-1990-009; ER21-1187-008; ER21-1188-008; ER21-1217-008; ER21-1218-008; ER21-1370-009; ER21-1916-007; ER21-1961-007; ER24-482-005; ER24-847-005; ER24-2657-004; ER24-2986-005; ER24-3150-003; ER24-3151-003; ER25-1910-002.

Applicants: White Tail Solar, LLC, Speedway Solar, LLC, Rocking R Solar, LLC, Long Lake Solar, LLC, Blue Bird Solar, LLC, Sunlight Road Solar, L.L.C., River Fork Solar, LLC, Big River Solar, LLC, Assembly Solar III, LLC, Assembly Solar II, LLC, St. James Solar, LLC, Iris Solar, LLC, Prairie State Solar, LLC, Dressor Plains Solar, LLC, North Star Solar PV LLC, Assembly Solar I, LLC.

Description: Notice of Change in Status of Assembly Solar I, LLC, et al.

Filed Date: 10/30/25.

Accession Number: 20251030-5344.

Comment Date: 5 p.m. ET 11/20/25.

Docket Numbers: ER23-2511-006; ER11-2036-019; ER16-2479-001; ER19-1597-011; ER19-2527-007; ER20-902-012; ER20-1593-011; ER20-1594-010; ER20-1596-011; ER20-1597-011; ER20-1599-011; ER20-1620-012; ER21-2767-007; ER22-414-013; ER22-1518-007; ER23-495-013; ER23-1503-005; ER23-2346-007; ER23-2439-006; ER23-2448-007; ER23-2450-006; ER23-2451-006; ER23-2456-003; ER24-1732-003; ER24-2103-006; ER24-2327-005; ER25-59-002.

Applicants: AES Pike County Energy Storage, LLC, Calhoun County Solar Project, LLC, Keydet Solar Center, LLC, Sol Madison Solar, LLC, Platteview Solar, LLC, Great Cove Solar II LLC, Great Cove Solar LLC, Tunica Windpower LLC, Cavalier Solar A2, LLC, Oak Ridge Solar, LLC, Cavalier Solar A, LLC, AES CE Solutions, LLC, Laurel Mountain BESS, LLC, AES Marketing and Trading, LLC, Skipjack Solar Center, LLC, AES Solutions Management, LLC, Richmond Spider Solar, LLC, Pleinmont Solar 2, LLC, Pleinmont Solar 1, LLC, Highlander IA, LLC, Highlander Solar Energy Station 1, LLC, sPower Energy Marketing, LLC, Prevailing Wind Park, LLC, AES Integrated Energy, LLC, AES ES Tait, LLC, AES Laurel Mountain, LLC, Hardy Hills Solar Energy LLC.

Description: Notice of Change in Status of Hardy Hills Solar Energy LLC, et al.

Filed Date: 10/31/25.

Accession Number: 20251031-5414.

Comment Date: 5 p.m. ET 11/21/25.

Docket Numbers: ER25-1720-003; ER10-2264-014; ER10-2783-025; ER10-2798-025; ER10-2799-025; ER10-2878-026; ER10-2879-025; ER10-2969-025; ER18-552-010; ER21-2423-014; ER21-2424-014; ER22-1402-010; ER22-1404-010; ER22-1449-009; ER22-1450-009; ER22-1662-008; ER22-2713-008.

Applicants: Parkway Generation Sewaren Urban Renewal Entity LLC, GB II New York LLC, GB II New Haven LLC,GB II Connecticut LLC, Parkway Generation Operating LLC, Parkway Generation Keys Energy Center LLC, Generation Bridge M&M Holdings, LLC, Generation Bridge Connecticut Holdings, LLC, Clean Energy Future-Lordstown, LLC, Oswego Harbor Power LLC, Montville Power LLC, Middleton Power LLC, Devon Power LLC, Connecticut Jet Power LLC, Arthur Kill Power LLC, Long Beach Generation LLC, Alpha Generation, LLC.

Description: Notice of Change in Status of Alpha Generation, LLC, et al.

Filed Date: 10/30/25.

Accession Number: 20251030-5343.

Comment Date: 5 p.m. ET 11/20/25.

Docket Numbers: ER25-3111-001; ER10-1841-037; ER10-1907-036; ER10-1918-037; ER10-2005-037; ER19-987-024; ER19-1003-024; ER19-1393-024; ER19-1394-024; ER19-2373-020; ER19-2437-020; ER19-2461-020; ER20-122-018; ER20-1769-015; ER20-1987-019; ER21-1320-014; ER22-2634-011; ER23-883-006; ER23-2694-008; ER24-2662-004; ER25-704-003; ER25-1338-003; ER25-1339-002; ER25-1545-003; ER25-1744-002; ER25-1962-002; ER25-2210-002; ER25-2797-001; ER25-3112-001; ER25-3119-001; ER25-3121-001; ER26-42-001.

Applicants: Butler Ridge Wind, LLC, Benton Solar, LLC, Emmons-Logan Energy Storage, LLC, Forest Trace Solar, LLC, Dodge County Wind, LLC, Delta Bobcat Solar, LLC, Century Oaks Energy Storage, LLC, Appleseed Solar, LLC, DG VDH BESS, LLC, Forgeview Solar, LLC, Flat Fork Solar, LLC, Amite Solar, LLC, Duane Arnold Solar II, LLC, Cereal City Solar, LLC, Bell Ridge Solar, LLC, Buffalo Ridge Wind, LLC, Crystal Lake Wind Energy III, LLC, Cerro Gordo Wind, LLC, Chicot Solar, LLC, Crowned Ridge Interconnection, LLC, Crowned Ridge Wind, LLC, Emmons-Logan Wind, LLC, Ashtabula Wind I, LLC, Endeavor Wind II, LLC, Endeavor Wind I, LLC, Crystal Lake Wind Energy II, LLC, Crystal Lake Wind Energy I, LLC, Ashtabula Wind II, LLC, FPL Energy North Dakota Wind II, LLC, FPL Energy North Dakota Wind, LLC, Butler Ridge Wind Energy Center, LLC, Amite Energy Storage, LLC.

Description: Notice of Change in Status of Amite Energy Storage, LLC, et al. under ER25-3111, et al. Part 1 of 2.

Filed Date: 11/3/25.

Accession Number: 20251103-5306.

Comment Date: 5 p.m. ET 11/24/25.

Docket Numbers: ER26-427-000.

Applicants: Ratts 2 Solar LLC.

Description: (doc-less) Motion to Intervene of Midcontinent Independent System Operator, Inc.

Filed Date: 11/6/25.

Accession Number: 20251106-5046.

Comment Date: 5 p.m. ET 11/28/25.

Docket Numbers: ER26-434-000.

Applicants: Alabama Power Company, Georgia Power Company, Mississippi Power Company.

Description: Tariff Amendment: Alabama Power Company submits tariff filing per 35.15: Solarpack Development (Warrenton Solar) LGIA Termination Filing to be effective 11/6/2025.

Filed Date: 11/6/25.

Accession Number: 20251106-5000.

Comment Date: 5 p.m. ET 11/28/25.

Docket Numbers: ER26-435-000.

Applicants: Tri-State Generation and Transmission Association, Inc.

Description: 205(d) Rate Filing: Amendment to Rate Schedule FERC No. 374 to be effective 1/6/2026.

Filed Date: 11/6/25.

Accession Number: 20251106-5073.

Comment Date: 5 p.m. ET 11/28/25.

Docket Numbers: ER26-436-000.

Applicants: Arizona Public Service Company.

Description: 205(d) Rate Filing: Mexico Tap. Exhibit B.MEX_REINSTATED to be effective 1/6/2026.

Filed Date: 11/6/25.

Accession Number: 20251106-5086.

Comment Date: 5 p.m. ET 11/28/25.

Docket Numbers: ER26-437-000.

Applicants: AEP Texas Inc.

Description: Tariff Amendment: AEPTX-Lunis Creek Solar Project Generation Interconnection Agr Cancellation to be effective 10/3/2025.

Filed Date: 11/6/25.

Accession Number: 20251106-5088.

Comment Date: 5 p.m. ET 11/28/25.

Docket Numbers: ER26-438-000.

Applicants: PJM Interconnection, L.L.C.

Description: Tariff Amendment: Notice of Cancellation WMPA SA No. 7520; Queue No. AF1-106 to be effective 1/6/2026.

Filed Date: 11/6/25.

Accession Number: 20251106-5091.

Comment Date: 5 p.m. ET 11/28/25.

Docket Numbers: ER26-439-000.

Applicants: ISO New England Inc., Eversource Energy Service Company (as agent), Central Maine Power Company, Maine Electric Power Company, Inc., The United Illuminating Company, Fitchburg Gas and Electric Light Company, Green Mountain Power Corporation, The Narragansett Electric Company, New England Power Company, Vermont Transco LLC, Versant Power.

Description: 205(d) Rate Filing: ISO New England Inc. submits tariff filing per 35.13(a)(2)(iii: New England PTO AC; Order No. 898 Rate Filing to be effective 12/21/2025.

Filed Date: 11/6/25.

Accession Number: 20251106-5111.

Comment Date: 5 p.m. ET 11/28/25.

Docket Numbers: ER26-440-000.

Applicants: Duke Energy Carolinas, LLC.

Description: 205(d) Rate Filing: DEC-NCMPA1 Revised NITSA SA No. 212 (2025) to be effective 12/1/2025.

Filed Date: 11/6/25.

Accession Number: 20251106-5112.

Comment Date: 5 p.m. ET 11/28/25.

Docket Numbers: ER26-441-000.

Applicants: Clearlight Energy US Funding, LLC.

Description: Initial Rate Filing: Application for Market-Based Rate Authorization, Request for Related Waivers to be effective 1/6/2026.

Filed Date: 11/6/25.

Accession Number: 20251106-5125.

Comment Date: 5 p.m. ET 11/28/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: November 6, 2025.
Carlos D. Clay,
Deputy Secretary.

[FR Doc. 2025-20861 Filed 11-24-25; 8:45 am]

BILLING CODE 6717-01-P